DEPARTMENT OF TRANSPORTATION

Federal Aviation Administration

[Summary Notice No. PE-2001-21]

Petitions for Exemption; Summary of Petitions Received; Dispositions of Petitions Issued

AGENCY: Federal Aviation Administration (FAA), DOT.

ACTION: Notice of petition for exemption received and of dispositions of prior petitions.

SUMMARY: Pursuant to FAA's rulemaking provisions governing the application, processing, and disposition of petitions for exemption part 11 of Title 14, Code of Federal Regulations (14 CFR), this notice contains a summary of a petition seeking relief from specified requirements of 14 CFR, and dispositions of certain petitions previously received. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 9, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls, (202) 267-8033, or Vanessa Wilkins, (202) 267-8029, Office of Rulemaking (ARM-1), Federal Aviation Administration, 800 Independence avenue, SW., Washington, DC 20591.

This notice is published pursuant to 14 CFR 11.85 and 11.91.

Issued in Washington, DC, on March 14, 2001.
Donald P. Byrne,
Assistant Chief Counsel for Regulations.

Petition for Exemption

Docket No.: FAA-2001-9034.

Petitioner: Bombardier Aerospace.

Section of 14 CFR Affected: 14 CFR 25.1435(b)(1).

Description of Relief Sought: To provide Bombardier Aerospace relief from the static pressure test requirement of § 25.1435(b)(1), for the hydraulic system on the Bombardier Continental Business Jet Model BD-100-1A10 airplane.

Dispositions of Petitions

Docket No.: FAA-2001-8738.

Petitioner: DHL Airways, Inc.

Section of 14 CFR Affected: 14 CFR 121.344(b)(3).

Description of Relief Sought/Disposition: To allow DHL to operate two Airbus 300B4-200 series airplanes (Registration Nos. N367DH and N366DH) without installing in each airplane, the required digital flight data recorder upgrade for a period of 90 days following approval of the Avitas supplemental type certificate, or August 20, 2001, whichever is earlier. Grant, 02/22/2001, Exemption No. 7429.

Docket No.: FAA-2001-8616.

Petitioner: Palm Air Incorporated.

Section of 14 CFR Affected: 14 CFR 135.143(c)(2).

Description of Relief Sought/Disposition: To permit PAI to operate certain aircraft under part 135 without a TSO-C112 (Mode S) transponder installed in the aircraft. Grant, 03/06/2001, Exemption No. 7453

Docket No.: FAA-2001-8615.

Petitioner: Aerolineas Argentinas.

Section of 14 CFR Affected: 14 CFR 145.47(b).

Description of Relief Sought/Disposition: To permit Aerolineas Argentinas to use the calibration standards of the Instituto Nacional de Technologia Industrial in lieu of the calibration standards of the National Institute of Standards and Technology to test its inspection and test equipment. Grant, 02/26/2001, Exemption No. 6584B.

Docket No.: FAA-2000-8388.

Petitioner: AirNet Systems, Inc.

Section of 14 CFR Affected: 14 CFR 145.45(f).

Description of Relief Sought/Disposition: To permit AirNet to assign copies of inspection procedures manual (IPM) to key individuals and place copies of the IPM in strategic locations rather than giving a copy of the IPM to each of its supervisory and inspection personnel. Grant, 02/26/2001, Exemption No. 7452.

Docket No.: FAA-2001-8938

Petitioner: Central Oregon Coast Air Services, LLC.

Section of 14 CFR Affected: 135.143(c) (2)

Description of Relief Sought/Disposition: To permit COCAS to operate certain aircraft under part 135 without a TSO-C112 (Mode S) transponder installed in the aircraft. Grant, 03/06/2001, Exemption No. 7454.

Docket No.: FAA-2000-8165.

Petitioner: Garret Aviation/The Jet Center.

Section of 14 CFR Affected: 14 CFR 25.813(e).

Description of Relief Sought/Disposition: To permit the installation of interior doors between passenger compartments on the Bombardier Global Express airplane, Model BD-700-1A10. Grant, 03/07/2001, Exemption No. 7455.

Docket No.: FAA-2001-8684.

Petitioner: Northwest Airlines, Inc.

Section of 14 CFR Affected: 14 CFR 121.709(b)(3).

Description of Relief Sought/Disposition: To permit Northwest to use electronic signatures signatures generated by its SCEPTRE electronic recordkeeping system in lieu of a physical signature to satisfy the airworthiness release or aircraft log entry signature requirements. Grant, 02/26/2001, Exemption No. 6575B.

[FR Doc. 01-6699 Filed 3-16-01; 8:45 am]

BILLING CODE 4910-13-M